DEPARTMENT OF TRANSPORTATION

Federal Aviation Administration

14 CFR Parts 413, 415 and 417

[Docket No. FAA-2000-7953; Notice No. 00-10]

RIN 2120-AG37

Licensing and Safety Requirements for Launch

AGENCY: Federal Aviation Administration (FAA), DOT.

ACTION: Notice of proposed rulemaking (NPRM); extension of comment period.

SUMMARY: This action extends the comment period for an NPRM that was published on October 25, 2000. In that document, the FAA proposed to amend its regulations to codify its license application process for launch from a non-federal launch site, and to codify its safety requirements for all licensed launches. This extension is a result of requests from International Launch Services, Lockheed Martin Corporation, Orbital Sciences Corporation, Sea Launch Company, LLC and The Boeing Company to extend the comment period to the proposal.

DATES: Comments must be received on or before April 23, 2001.

ADDRESSES: Comments on this document should be mailed or delivered, in duplicate, to: U.S. Department of Transportation Dockets, Docket No. FAA-2000-7953, 400 Seventh Street, SW., Room Plaza 401, Washington, DC 20590. Comments may be filed and examined in Room Plaza 401, Washington, DC 20590. Comments may be filed and examined in Room Plaza 401 between 10 a.m. and 5 p.m. weekdays, except Federal holidays. Comments also may be sent electronically to the Dockets Management System (DMS) at the following Internet address: http://dms.dot.gov at any time. Commenters who wish to file comments electronically, should follow the instructions on the DMS web site.

FOR FURTHER INFORMATION CONTACT: Michael Dook, Licensing and Safety Division (AST-200), Associate Administrator for Commercial Space Transportation, Federal Aviation Administration, DOT, Room 331, 800 Independence Avenue, SW., Washington, DC 20591; telephone (202) 267-8462; or Laura Montgomery, Office of the Chief Counsel (AGC-200), Federal Aviation Administration, DOT, Room 915, 800 Independence Avenue, SW., Washington, DC 20591; telephone (202) 267-3150.

SUPPLEMENTARY INFORMATION:

Comments Invited

Interested persons are invited to participate in this rulemaking by submitting such written data, views, or arguments, as they may desire. Comments relating to the environmental, energy, federalism, or economic impact that might result from adopting the proposals in this document are also invited. Substantive comments should be accompanied by cost estimates. Comments should identify the regulatory docket or notice number and should be submitted in duplicate to the Rules Docket address specified above.

All comments received, as well as a report summarizing each substantive public contact with FAA personnel on this rulemaking, will be filed in the docket. The docket is available for public inspection before and after the comment closing date.

The Administrator will consider all comments received on or before the closing date before taking action on this proposed rulemaking. Comments filed late will be considered as far as possible without incurring expense or delay. The proposals contained in this rulemaking may be changed in light of the comments received.

Commenters wishing the FAA to acknowledge receipt of their comments submitted in response to this notice must include a pre-addressed, stamped postcard with those comments on which the following statement is made: “Comments to Docket No. FAA-2000-7953.” The postcard will be date stamped and mailed to the commenters.

Availability of NPRMs

An electronic copy is available on the Internet by taking the following steps:

(1) Go to the search function of the Department of Transportation's electronic Docket Management System (DMS) Web page (hhtp://dms.dot.gov/search).

(2) On the search page type in the last four digits of the Docket number shown at the beginning of this notice. Click on “search.”

(3) On the next page, which contains the Docket summary information for the Docket selected, click on the proposed rule.

An electronic copy is also available on the Internet through FAA's web page at http://www.faa.gov/avr/arm/nprm/nprm.htm or the Federal Register's web page at http://www.access.gpo.gov/su_docs/aces/aces140.html.

Further, a copy may be obtained by submitting a written request to the Federal Aviation Administration, Office of Rulemaking, ARM-1, 800 Independence Avenue SW., Washington, DC 20591, or by calling (202) 267-9680. Make sure to identify the notice number or docket number of this proposed rule.

Background

The Associate Administrator for Commercial Space Transportation of the Federal Aviation Administration (FAA), Department of Transportation (DOT), published a notice proposing to amend the FAA's commercial space transportation regulations (October 25, 2000, 65 FR 63921). The FAA proposes to amend its regulations to codify its license application process for launch from a non-federal launch site. A non-federal launch site is a launch site not located on a federal launch range. The proposed regulations are also intended to codify the safety requirements for launch operators regarding license requirements, criteria, and responsibilities in order to protect the public from the hazards of launch for launch from a federal launch range or a non-federal launch site.

Extension of Comment Period

In accordance with § 404.13 of Title 14, Code of Federal Regulations, the FAA has reviewed the petitions made by International Launch Services, Lockheed Martin Corporation, Orbital Sciences Corporation, Sea Launch Company, LLC and The Boeing Company for extension of the comment period to Notice No. 00-10. These petitioners jointly requested an extension of time of 180 days to permit more time to address substantial issues in the notice of proposed rulemaking. To allow additional time for a more thorough review of applicable issues and drafting of responsive comments, the FAA finds that there is good cause and it is in the public interest to extend the comment period for an additional 60 days beyond the 120 already provided. Accordingly, the comment period for Notice No. 00-10 is extended until April 23, 2001.

Issued in Washington, DC, on February 15, 2001.
Patricia Grace Smith,
Associate Administrator for Commercial Space Transportation.

[FR Doc. 01-4378 Filed 2-20-01; 8:45 am]

BILLING CODE 4910-22-M